DEPARTMENT OF AGRICULTURE

Office of the Secretary

Determination of Total Amounts of Fiscal Year 2014 WTO Tariff-Rate Quotas for Raw Cane Sugar and Certain Sugars, Syrups and Molasses

AGENCY: Office of the Secretary, USDA.

ACTION: Notice.

SUMMARY: The Office of the Secretary of the Department of Agriculture (the Secretary) announces the establishment of the Fiscal Year (FY) 2014 (October 1, 2013-September 30, 2014) in-quota aggregate quantity of raw cane sugar at 1,117,195 metric tons raw value (MTRV). The Secretary also announces the establishment of the FY 2014 in-quota aggregate quantity of certain sugars, syrups, and molasses (also referred to as refined sugar) at 122,000 MTRV.

DATES: Effective Date: September 13, 2013.

FOR FURTHER INFORMATION CONTACT: Souleymane Diaby, Import Policies and Export Reporting Division, Foreign Agricultural Service, Department of Agriculture, 1400 Independence Avenue SW., AgStop 1021, Washington, DC 20250-1021; by telephone (202) 720-2916; by fax (202) 720-0876; or by email souleymane.diaby@fas.usda.gov.

SUPPLEMENTARY INFORMATION: The provisions of paragraph (a)(i) of the Additional U.S. Note 5, Chapter 17 in the U.S. Harmonized Tariff Schedule (HTS) authorize the Secretary to establish the in-quota TRQ amounts (expressed in terms of raw value) for imports of raw cane sugar and certain sugars, syrups, and molasses that may be entered under the subheadings of the HTS subject to the lower tier of duties for entry during each fiscal year. The Office of the U.S. Trade Representative (USTR) is responsible for the allocation of these quantities among supplying countries and areas.

Section 359(k) of the Agricultural Adjustment Act of 1938, as amended, requires that at the beginning of the quota year the Secretary of Agriculture establish the TRQs for raw cane sugar and refined sugars at the minimum levels necessary to comply with obligations under international trade agreements, with the exception of specialty sugar.

Notice is hereby given that I have determined, in accordance with paragraph (a)(i) of the Additional U.S. Note 5, Chapter 17 in the HTS and section 359(k) of the 1938 Act, that an aggregate quantity of up to 1,117,195 MTRV of raw cane sugar may be entered or withdrawn from warehouse for consumption during FY 2014. This is the minimum amount to which the United States is committed under the WTO Uruguay Round Agreements. I have further determined that an aggregate quantity of 122,000 MTRV of sugars, syrups, and molasses may be entered or withdrawn from warehouse for consumption during FY 2014. Of this quantity of 122,000 MTRV, the quantity of 101,656 MTRV is reserved for the importation of specialty sugars as defined by the USTR. The total of 122,000 MTRV includes the 22,000 MTRV minimum level necessary to comply with U.S. WTO Uruguay Round commitments, of which 1,656 MTRV is reserved for specialty sugar. Because the specialty sugar TRQ is first-come, first-served, tranches are needed to allow for orderly marketing throughout the year.

The FY 2014 specialty sugar TRQ will be opened in five tranches. The first tranche, totaling 1,656 MTRV, will open October 10, 2013. All specialty sugars are eligible for entry under this tranche. The second tranche will open on October 24, 2013, and be equal to 37,000 MTRV. The remaining tranches will each be equal to 21,000 MTRV, with the third opening on January 9, 2014; the fourth, on April 10, 2014; and the fifth, on July 10, 2014. The second, third, fourth, and fifth tranches will be reserved for organic sugar and other specialty sugars not currently produced commercially in the United States or reasonably available from domestic sources.

* Conversion factor: 1 metric ton = 1.10231125 short tons.

Dated: August 9, 2013.
Darci L. Vetter,
Under Secretary, Farm and Foreign Agricultural Services.

[FR Doc. 2013-22351 Filed 9-12-13; 8:45 am]

BILLING CODE 3410-10-P